DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Census Barriers, Attitudes, and Motivators Survey (CBAMS) II.

OMB Control Number: 0607-0947.

Form Number(s): None. All information will be collected electronically.

Type of Request: Reinstatement, with change, of an expired collection.

Burden Hours: 1,757.

Number of Respondents: 4,200.

Average Hours per Response: 25 minutes.

Needs and Uses: Every ten years, the U.S. Census Bureau is constitutionally mandated to count everyone (citizens and non-citizens) residing in the United States. An accurate count is critical for many reasons including but not limited to:

• Congressional reapportionment,

• Redistricting congressional boundaries;

• Community planning; and

• Distribution of public funds and program development.

To facilitate the data collection effort for the 2010 Census, the Census Bureau developed an Integrated Communications Plan (ICP). The role of the ICP was to increase public awareness and to motivate people to respond to the census promptly, saving millions of taxpayer dollars. The specific objectives of the ICP were to:

• Increase mail response;

• Improve cooperation with enumerators; and

• Improve overall accuracy and reduce differential undercount.

The Census Bureau conducted the Census Barriers, Attitudes, and Motivators Survey (CBAMS) in 2008 to gain an in-depth understanding of the public's opinions about the 2010 Census. The results of that survey revealed that there were distinct mindsets toward the Census, and customizing outreach to these attitudinal mindsets is an important part of the Census Bureau's communications strategy for 2020 and beyond. In CBAMS II, the Census Bureau will extend that research to further specify the segments and to learn about their stability and structure. The results of CBAMS II will inform the market research program and communications for Census 2020.

The primary purpose of CBAMS II is to understand Census mindsets. The data collected will not be used to produce official Census Bureau statistics. The purpose of the data collection is to shape the research and communications program for Census 2020. Findings from this survey will determine how often and what kind of market research is conducted over the next decade to support communications for Census 2020. Findings will also be used to shape messages directly. The analytic goals of CBAMS II are to:

• Determine the best method for identifying Census mindsets by evaluating the reliability of mindset creation algorithms from CBAMS I and CBAMS II.

• Understand more about the profiles of the mindsets, especially addressing the following questions:

• Is there a qualitative distinction between people who are unaware of the Census and those who lack extensive knowledge of the Census?

• What are the characteristics and belief profiles of people whose attitude toward the Census is negative?

• What sub-segments exist within the large positive segments?

• Measure attitudes toward the possible use of administrative records to supplement or replace the Census and relate those attitudes to Census mindsets

One of the outcomes from CBAMS II will be a survey tool to identify the likely segment of respondents to future Census market research surveys.

When possible, respondents to CBAMS II will be matched to the Census Planning Database (PDB) by tract number to link to Census 2000 census participation and hard-to-count data. In cases where a link to tract can be made, we will further roll cases back up into an eight-cluster segmentation scheme based on the PDB. The sample source for in person interviews will be the Delivery Sequence File from the United States Postal Service, so for these records, we will have addresses and be able to determine Census tract. For the telephone respondents, we will collect zip codes to facilitate this linkage, but we will not collect address information. In fact, we will not collect any personally identifiable information from any respondent.

Affected Public: Individuals or households.

Frequency: One time.

Respondent's Obligation: Voluntary.

Legal Authority: Title 13 U.S.C., Sections 141 and 193.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: March 2, 2011.
Gwellnar Banks,
Management Analyst, Office of the Chief Information Officer.

[FR Doc. 2011-5065 Filed 3-4-11; 8:45 am]

BILLING CODE 3510-07-P